DEPARTMENT OF COMMERCE

National Institute of Standards and Technology

Prospective Grant of Exclusive Patent License

AGENCY: National Institute of Standards and Technology, Department of Commerce.

ACTION: Notice; prospective grant of exclusive patent license.

SUMMARY: The National Institute of Standards and Technology (“NIST”), U.S. Department of Commerce, is contemplating the grant of an exclusive license in the United States of America, its territories, possessions and commonwealths, to NIST's interest in the invention embodied in U.S. Patent Application No. 62/302,855, titled “Prostate Cancer Detection Using Western Blot Analysis,” (NIST Docket No. 16-007) to McJimpsey Biotechnologies, Inc. The grant of the license would be for prostate cancer detection.

FOR FURTHER INFORMATION CONTACT: Donald Archer, National Institute of Standards and Technology, Technology Partnerships Office, 100 Bureau Drive, Stop 2200, Gaithersburg, MD 20899, (301) 975-2522; donald.archer@nist.gov.

SUPPLEMENTARY INFORMATION: The prospective exclusive license will be royalty bearing and will comply with the terms and conditions of 35 U.S.C. 209 and 37 CFR 404.7. The prospective exclusive license may be granted unless, within fifteen (15) days from the date of this published Notice, NIST receives written evidence and argument which establish that the grant of the license would not be consistent with the requirements of 35 U.S.C. 209 and 37 CFR 404.7. The Provisional Patent Application was filed on March 3, 2016 and describes systems and methods for detecting prostate cancer.

Phillip Singerman,
Associate Director for Innovations and Industry Services.

[FR Doc. 2017-06003 Filed 3-24-17; 8:45 am]

BILLING CODE 3510-13-P